DEPARTMENT OF ENERGY

Federal Energy Regulatory Commission

[Project No. 12683-002]

Three Guys Hydroelectric Company, LLC; Notice of Preliminary Permit Application Accepted for Filing and Soliciting Comments, Motions To Intervene, and Competing Applications

October 23, 2009.

On September 1, 2009, Three Guys Hydroelectric Company, LLC filed an application for a successive preliminary permit, pursuant to section 4(f) of the Federal Power Act, proposing to study the feasibility of the R. D. Bailey Dam Hydroelectric Project No. 12683, to be located at the existing R. D. Bailey Dam, on the Guyandotte River, in Mingo County, West Virginia. The sole purpose of a preliminary permit, if issued, is to grant the permit holder priority to file a license application during the permit term. A preliminary permit does not authorize the permit holder to perform any land disturbing activities or otherwise enter upon lands or waters owned by others without the owners' express permission.

The existing R. D. Bailey Dam is owned and operated by the U.S. Corps of Engineers, and includes the existing reservoir, dam, outlet works, and tailrace. The proposed project would consist of: (1) A new 60-foot-long by 40-foot-wide powerhouse to be located on the downstream side of R. D. Bailey dam below the outlet works; (2) a new bifurcating steel structure consisting of a 100-foot-long gated bypassed outlet and a 150-foot-long, 11-foot-diameter penstock; (3) two new turbine generator units for a total installed capacity of 7.8 megawatts; (4) a new 6.5-mile-long, 14.7-kilovolt transmission line; and (5) appurtenant facilities. The proposed project would operate in run-of-river mode and generate an estimated average annual generation of 30,000 megawatt-hours.

Applicant Contact: Mr. M. Clifford Phillips, Advanced Hydro Solutions LLC, 150 North Miller Road, Suite 450C, Fairlawn, OH 44333.

FERC Contact: Michael Watts, (202) 502-6123.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-12683) in the docket number field to access the document. For assistance, call toll-free 1-866-208-3372.

Kimberly D. Bose,
Secretary.

[FR Doc. E9-26240 Filed 10-30-09; 8:45 am]

BILLING CODE 6717-01-P